DEPARTMENT OF HEALTH AND HUMAN SERVICES

National Institutes of Health

Eunice Kennedy Shriver National Institute of Child Health & Human Development; Amended Notice of Meeting

Notice is hereby given of a change in the meeting of the National Advisory Board on Medical Rehabilitation Research, May 05, 2025, 10:00 a.m. to May 06, 2025, 05:00 p.m., Eunice Kennedy Shriver National Institute of Child, Health and Human Development, 6710 B Rockledge Drive, Bethesda, MD 20817 which was published in the Federal Register on December 30, 2024, 89FR106540.

The meeting notice is amended to change the start date of the meeting from 5/5-6/2025 to 5/5/2025. The meeting is open to the public.

Dated: March 26, 2025.
Bruce A. George,
Program Analyst, Office of Federal Advisory Committee Policy.

[FR Doc. 2025-05479 Filed 3-28-25; 8:45 am]

BILLING CODE 4140-01-P